Proclamation 9395 of February 12, 2016

Establishment of the Mojave Trails National Monument

By the President of the United States of America

A Proclamation

The Mojave Trails area of southern California is a stunning mosaic of rugged mountain ranges, ancient lava flows, and spectacular sand dunes. It is a landscape defined by scarcity and shaped by travel. The area exemplifies the remarkable ecology of the Mojave Desert, where the hearty insistence of life is scratched out from unrelenting heat and dryness. This punishing environment has also forged the unique human history of the area, from ancient settlements uprooted by a changing climate to the armies of General George S. Patton, Jr., as they trained for battle in North Africa. With historic American trading routes, trails followed by Spanish explorers, a transcontinental rail line, and the Nation's most famous highway, the Mojave Trails area tells the American story of exploration, migration, and commerce. The Mojave Trails area is an invaluable treasure and will continue to serve as an irreplaceable national resource for geologists, ecologists, archaeologists, and historians for generations to come.

The Mojave Trails area has been a focus of geological research for decades. This unique landscape contains a stunning diversity of lava flows, mountains, playas, sand dunes, bajadas, washes, and other features. The area contains a number of significant sand dune features, most notably the stunning Cadiz Dunes, which have been extensively studied. The mountains of the Mojave Trails area include several significant formations, and seismologists have studied this area for insight into faulting, tectonics, and magmatism. A number of young volcanoes and their associated lava flows in the area have been heavily studied by volcanologists. Amboy Crater, designated as a National Natural Landmark in 1973, has been the focus of research on a number of volcanic phenomena. The Pisgah Volcano lava flow's vast network of lava tubes constitutes southern California's highest density of caves, and is used by both speleologists and recreational cavers. The area's terrain and geology have provided a surrogate for lunar and Martian landscapes, and many of the robotic and imaging technologies used to better understand volcanism and Aeolian processes have been developed and tested in the Mojave Trails area.

Outstanding paleontological resources can be found throughout the Mojave Trails area. The Cady Mountains contain important fossil fauna assemblages dating to the Miocene Period. The Marble Mountain Fossil Bed area contains one of the classic Cambrian trilobite fossil sites in the Western United States. Set in the green-brown lower Cambrian Latham Shale, the fossil beds also contain the fossilized remains of brachiopods, mollusks, echinoderms, and algal bodies that are of great interest to paleontologists. The southern Bristol Mountains contain Tertiary fossils such as camel tracks, invertebrates, and numerous plants; this fossil history has also been used to understand the climate history of the Mojave Desert. Significant vertebrate fossils and other fossil resources have also been identified in Piute Valley and Cadiz Valley as well as the Ship Mountains, Little Piute Mountains, and Sacramento Mountains.

The Mojave Trails area has been important for ecological research, including studies on the effects of climate change and land management practices on ecological communities and wildlife. It provides opportunity for further research on ecological connectivity in the Mojave Desert region, as it is among the most ecologically intact areas in southern California. The species that have managed to thrive here are specialists in perseverance and resourcefulness and are remarkable for their ability to withstand the desert extremes. The area's scarce springs and riparian areas such as Afton Canyon, Chuckwalla Spring, Hummingbird Spring, Barrel Spring, and Fenner Spring provide refuges for a wide variety of plants and animals. The complex network of groundwater underlying the Mojave Trails area has been the subject of past and ongoing hydrological study. Underground aquifers feed springs and seeps that are important for sensitive ecosystems and wildlife, though specific connections are not yet well understood.

Rare plant species such as the scrub lotus, rosy two-tone beardtongue, whitemargin beardtongue, Emory's crucifixion-thorn, small-flowered androstephium, white-margined penstemon, and Borrego milkvetch rely on the specific habitat types found in the Mojave Trails area. The Piute Valley area in the northeastern part of the Mojave Trails area is home to the northernmost occurrences of smoke trees in the California desert, as well as the Homer Mountain Ocotillo Assemblage. The lowlands and middle elevations are also home to other unique or ecologically significant plants such as the endemic Orocopia Mountains spurge. Numerous cactus species are also found here, including the densest concentration of Bigelow cholla cactus in California. Ongoing research in the Mojave Trails area has identified other plant species that are new to science, many of which have not yet been described.

Birds including the endangered Least Bell's vireo, southwestern willow flycatcher, and yellow-billed cuckoo depend on this area, as do raptors such as the burrowing owl, red-tailed hawk, golden eagle, American kestrel, and prairie falcon. Fragile desert fish species such as the bonytail chub rely on the scarce waters of the desert riparian ecosystems. A wide variety of fascinating native mammal species can be found in the Mojave Trails area, including the kit fox, ringtail, American badger, mountain lion, and bighorn sheep. Reptiles and amphibians, including the Mojave Desert's largest lizard, the chuckwalla, have been extensively studied in the Mojave Trails area. The area contains some of the Mojave Desert's best habitat for the threatened desert tortoise and provides important dispersal corridors for that fragile species. An unusual community of invertebrates associated with lava tubes in the Pisgah area offers an ongoing opportunity for entomological research.

Humans have lived in and moved through the Mojave Trails area for more than 10,000 years. The archeological record tells of a human existence shaped by a changing climate. During the Paleo-Indian period, now-dry lakes provided fresh water to small groups of nomadic people and the animals they hunted. From around 7,000 to 2,000 BC, rising temperatures resulted in a change from wet to dry conditions. Associated ecological changes in the region led to new patterns of subsistence for native peoples. Although people remained closely tied to water sources following the temperature increase, desert inhabitants adjusted their diets to rely more heavily on plants and fish, invented new tools, and expanded the sizes of their social groups. During the Formative Period (2,500 to 1,500 BC), dry conditions meant the inhabitants of the Mojave Desert remained in small groups. They relied heavily for their survival on the Mojave River, a name derived from the traditional name for these people, Pipa Aha Macav (“the people by the river”). The Mojave people left their mark on the landscape through petroglyphs, pictographs, old trails, and stone work, some of which can still be found today, especially near springs and rivers and along the shores of now-extinct lakes.

The Mojave were not the only people to use or pass through this landscape. Ancestors of the Chemehuevi Indian Tribe, a branch of the Southern Paiute, have been persistent occupants of the Mojave Desert for thousands of years. Sacred Chemehuevi trails are often tied to traditional and ceremonial songs. The Salt Song Trail, one of the longest song trails of the Chemehuevi people, passes through the Mojave Trails area near the town of Fenner and the Ward Valley. Natural land patterns form the route of this trail, with specific songs sung at specific wayside locations. Other Native Americans who have lived in or passed through the Mojave Desert include the Shoshone, Serrano, Kawaiisu, and the Paiute. The Ward Valley, located between the Old Woman and Piute Mountains, is sacred to a number of these tribes, as are the Mesquite and Crucero Hills, which contain over 50 archaeological sites including petroglyphs, milling stations, temporary camps, intaglios, lithic scatters, and pottery dating as far back as 4,000 years.

The Mojave Trails area has been a critical travel corridor for millennia, linking the Pacific Coast to the deserts of the southwest and beyond. The Mojave Indian Trail is the earliest known travel route passing through the Mojave Trails area, used by Native Americans for thousands of years and by early Spanish explorers and traders. In 1829, Mexican explorer Antonio Armijo pioneered the Old Spanish Trail through this area. Evidence of the trail, now designated a National Historic Trail, can still be found at Afton Canyon.

By the end of the 19th century, transcontinental rail travel had changed the American West in profound ways. In 1882, Southern Pacific constructed a railroad route from Barstow to Needles. In addition to the major rail stops established at Needles and Barstow, several smaller towns and rail stops were established along this stretch, including the alphabetically named Amboy, Bristol, Cadiz, Danby, Essex, Fenner, and Goffs. These towns remain, some as inhabited hamlets and others as abandoned ghost towns, and some historical artifacts from the original rail line still exist, including original rail ties and track and later improvements of communications poles, insulators, and wires.

A modest dirt road—an original trackside component of the railroad project—would later become the most famous highway in America. In 1911, in the infancy of the automobile era, the County of San Bernardino paved the first stretch of that road from Barstow to Needles. The next year, this stretch became part of the National Old Trails Road, which extended more than 3,000 miles from New York, New York, to Los Angeles, California, and connected the American coasts by pavement for the first time. In 1926, the road was officially designated as U.S. Highway 66, a designation soon known around the world as Route 66. During the 1930s, Route 66 became an important route for migrants escaping economic hardships of the Great Depression and droughts in the Central plains. As the national economy rebounded following World War II, Americans took to the highways in unprecedented numbers. The road became an American icon, earning the nickname the “Main Street of America” and inspiring popular culture through music, literature, and film.

The popularity of Route 66, however, hastened its downfall; increasing traffic quickly exceeded its two-lane capacity. In 1985, Route 66 was officially decommissioned, leaving behind a powerful albeit fragmented narrative history of America's automobile culture of the first half of the 20th century and its legacy of related commerce and architecture. The Mojave Trails area contains the longest remaining undeveloped stretch of Route 66, offering spectacular and serene desert vistas and a glimpse into what travelers experienced during the peak of the route's popularity in the mid-20th century. Today, the ghost towns along this stretch of Route 66 are a visual legacy of how the automobile shaped the American landscape.

In addition to its important role in the transportation history of the United States, the Mojave Trails area is a unique resource for understanding one of the most formative periods in American military history. During the height of World War II, the United States military recognized a need to develop a desert training program in order to prepare its troops to fight the tank armies of Nazi Germany in North Africa. Major General George S. Patton, Jr., commander of the I Armored Corps, selected the site of the Desert Training Center in the Mojave Trails area, the largest training area in the world at the time. More than one million troops trained in the area between 1942 and 1944, including at Camp Ibis, Camp Clipper, Camp Iron Mountain, Camp Granite, and Camp Essex. Remnants of these camps can still be found today, including rock-lined streets, staging areas, flag circles, altars, tent areas, and even tank tracks on some of the area's hardpan playas.

The protection of the Mojave Trails area will preserve its cultural, prehistoric, and historic legacy and maintain its diverse array of natural and scientific resources, ensuring that the prehistoric, historic, and scientific values of this area remain for the benefit of all Americans.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which in all cases shall be confined to the smallest area compatible with the proper care and management of the objects to be protected;

WHEREAS, it is in the public interest to preserve the objects of scientific and historic interest on the Mojave Trails lands;

NOW, THEREFORE, I, BARACK OBAMA, President of the United States of America, by the authority vested in me by section 320301 of title 54, United States Code, hereby proclaim the objects identified above that are situated upon lands and interests in lands owned or controlled by the Federal Government to be the Mojave Trails National Monument (monument) and, for the purpose of protecting those objects, reserve as part thereof all lands and interests in lands owned or controlled by the Federal Government within the boundaries described on the accompanying map, which is attached to and forms a part of this proclamation. These reserved Federal lands and interests in lands encompass approximately 1.6 million acres. The boundaries described on the accompanying map are confined to the smallest area compatible with the proper care and management of the objects to be protected.

All Federal lands and interests in lands within the boundaries of the monument are hereby appropriated and withdrawn from all forms of entry, location, selection, sale, or other disposition under the public land laws, from location, entry, and patent under the mining laws, and from disposition under all laws relating to mineral and geothermal leasing, other than by exchange that furthers the protective purposes of the monument or disposal for the limited purpose of providing materials for repairing or maintaining roads and bridges within the monument consistent with care and management of the objects identified above.

The establishment of the monument is subject to valid existing rights. If the Federal Government acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of the Interior (Secretary) shall manage the monument through the Bureau of Land Management (BLM) as a unit of the National Landscape Conservation System, pursuant to applicable legal authorities, to protect the objects identified above.

For purposes of the care and management of the objects identified above, the Secretary, through the BLM, shall within 3 years of the date of this proclamation prepare and maintain a management plan for the monument and shall provide for maximum public involvement in the development of that plan including, but not limited to, consultation with tribal, State, and local governments.

Nothing in this proclamation shall be construed to preclude the renewal or assignment of, or interfere with the operation or maintenance of, or with the replacement, modification, or upgrade within or adjacent to an existing authorization boundary of, existing flood control, utility, pipeline, or telecommunications facilities that are located within the monument in a manner consistent with the care and management of the objects identified above. Existing flood control, utility, pipeline, or telecommunications facilities located within the monument may be expanded, and new facilities may be constructed within the monument, but only to the extent consistent with the care and management of the objects identified above.

The Secretary shall work with appropriate State officials to ensure the availability of water resources, including groundwater resources, needed for monument purposes.

Except for emergency or authorized administrative purposes, motorized vehicle use in the monument shall be permitted only on roads existing as of the date of this proclamation. Non-motorized mechanized vehicle use shall be permitted only on roads and trails designated for their use consistent with the care and management of the objects identified above. The Secretary shall prepare a transportation plan that designates the roads and trails where motorized or non-motorized mechanized vehicle use will be permitted.

Laws, regulations, and policies followed by the BLM in issuing and administering grazing permits or leases on lands under its jurisdiction, including provisions specific to the California Desert Conservation Area, shall continue to apply with regard to the lands in the monument, consistent with the care and management of the objects identified above.

Nothing in this proclamation shall be deemed to enlarge or diminish the jurisdiction of the State of California, including its jurisdiction and authority with respect to fish and wildlife management.

Nothing in this proclamation shall preclude low level overflights of military aircraft, the designation of new units of special use airspace, the use or establishment of military flight training routes over the lands reserved by this proclamation, or related military uses, consistent with the care and management of the objects identified above.

Nothing in this proclamation shall alter the Department of Defense's use of the Restricted Airspace established by the Federal Aviation Administration. Further, nothing in this proclamation shall preclude (i) air or ground access for existing or new electronic tracking and communications; (ii) landing and drop zones; and (iii) readiness and training by the U.S. Armed Services, Joint and Coalition forces, including training using motorized vehicles both on and off road, in accordance with applicable interagency agreements.

Nothing in this proclamation shall be construed to alter the authority or responsibility of any party with respect to emergency response activities within the monument, including wildland fire response.

Nothing in this proclamation shall be deemed to enlarge or diminish the rights of any Indian tribe. The Secretary shall, to the maximum extent permitted by law and in consultation with Indian tribes, ensure the protection of Indian sacred sites and cultural sites in the monument and provide access to the sites by members of Indian tribes for traditional cultural and customary uses, consistent with the American Indian Religious Freedom Act (42 U.S.C. 1996) and Executive Order 13007 of May 24, 1996 (Indian Sacred Sites).

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twelfth day of February, in the year of our Lord two thousand sixteen, and of the Independence of the United States of America the two hundred and fortieth.

Billing code 3295-F6-P

[FR Doc. 2016-03544

Filed 2-17-16; 11:15 am]

Billing code 4310-10-C